ENVIRONMENTAL PROTECTION AGENCY

[EPA-HQ-OW-2008-0719, FRL-9194-1]

Agency Information Collection Activities; Submission to OMB for Review and Approval; Cooling Water Intake Structure Phase II Existing Facilities (Renewal), EPA ICR No. 2060.04, OMB Control No. 2040-0257

AGENCY: Environmental Protection Agency (EPA).

ACTION: Notice.

SUMMARY: In compliance with the Paperwork Reduction Act (PRA) (44 U.S.C. 3501 et seq.), this document announces an Information Collection Request (ICR) has been forwarded to the Office of Management and Budget (OMB) for review and approval. This is a request to renew an existing approved collection. This ICR describes the nature of the information collection and its estimated burden and cost.

DATES: Comments must be submitted on or before September 27, 2010.

ADDRESSES: Submit your comments, referencing Docket ID No. EPA-HQ-OW-2008-0719 to (1) EPA online using http://www.regulations.gov (our preferred method), by e-mail to ow-docket@epa.gov, or by mail to: EPA Docket Center, Environmental Protection Agency, Water Docket, Mail Code 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Amelia Letnes, State and Regional Branch, Water Permits Division, OWM Mail Code: 4203M, Environmental Protection Agency, 1200 Pennsylvania Ave., NW., Washington, DC 20460; telephone number: (202) 564-5627; e-mail address: letnes.amelia@epa.gov.

SUPPLEMENTARY INFORMATION:

How Can I Access the Docket and/or Submit Comments?

EPA has submitted the following ICR to OMB for review and approval according to the procedures prescribed in 5 CFR 1320.12. On June 21, 2010 (75 FR 35022), EPA sought comments on this ICR pursuant to 5 CFR 1320.8(d). EPA received 1 comment during the comment period, which is addressed in the ICR. Any additional comments on this ICR should be submitted to EPA and OMB within 30 days of this notice.

EPA has established a public docket for this ICR under Docket ID No. EPA-HQ-OW-2008-0719, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov to submit or view public comments, access the index listing of the contents of the docket, and to access those documents in the docket that are available electronically. Once in the system, select “search,” then key in the docket ID number identified in this document. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Cooling Water Intake Structure Phase II Existing Facilities (Renewal).

ICR Numbers: EPA ICR No. 2060.04, OMB Control No. 2040-0257.

ICR Status: This ICR is currently scheduled to expire on August 31, 2010. An Agency may not conduct or sponsor, and a person is not required to respond to, a collection of information, unless it displays a currently valid OMB control number. The OMB control numbers for EPA's regulations in title 40 of the CFR, after appearing in the Federal Register when approved, are listed in 40 CFR Part 9, and displayed either by publication in the Federal Register or by other appropriate means, such as on the related collection instrument or form, if applicable. The display of OMB control numbers in certain EPA regulations is consolidated in 40 CFR Part 9.

Abstract: The section 316(b) Phase II Existing Facility rule requires the collection of information from existing point source facilities that generate and transmit electric power (as a primary activity) or generate electric power but sell it to another entity for transmission, use a cooling water intake structure (CWIS) that uses at least 25 percent of the water it withdraws from waters of the U.S. for cooling purposes, and have a design intake flow of 50 million gallons per day (MGD) or more. Section 316(b) of the Clean Water Act (CWA) requires that any standard established under section 301 or 306 of the CWA and applicable to a point source must require that the location, design, construction and capacity of CWISs at that facility reflect the best technology available (BTA) for minimizing adverse environmental impact. Such impact occurs as a result of impingement (where fish and other aquatic life are trapped on technologies at the entrance to CWIS) and entrainment (where aquatic organisms, eggs, and larvae are taken into the cooling system, passed through the heat exchanger, and then pumped back out with the discharge from the facility). The 316(b) Phase II rule establishes requirements applicable to the location, design, construction, and capacity of CWISs at Phase II existing facilities. These requirements establish the BTA for minimizing adverse environmental impact associated with the use of CWISs.

The 316(b) Phase II rule was signed on February 16, 2004. Industry and environmental groups, and a number of states filed legal challenges to the rule. Several issues were heard by the Second Circuit's Court of Appeals, which issued a decision on January 25, 2007 remanding portions of the rule (see Riverkeeper, Inc. v. U.S. EPA, No. 04-6692-ag(L) [2d Cir. Jan. 25, 2007]). Industry groups also petitioned the Supreme Court on several issues, which issued a decision on April 1, 2009. (Entergy Corp. v. Riverkeeper, Inc., No. 07-588). EPA subsequently suspended the 316(b) Phase II rule on July 9, 2007 and is currently in the process of developing a revised rule for existing facilities. However, permitting authorities are still required under section 301 of the CWA to establish BTA permit limits using best professional judgment. The existing Phase II rule provides a framework for the type of information a permit authority needs to establish appropriate BTA limits for CWISs. This ICR does not address the results of court decisions or any proposed regulation.

Burden Statement: The annual average reporting and recordkeeping burden for the collection of information by facilities responding to the Section 316(b) Phase II Existing Facility rule is estimated to be 2,071 hours per respondent. The state Director reporting and recordkeeping burden for the review, oversight, and administration of the rule is estimated to average 1,101 hours per respondent. Burden means the total time, effort, or financial resources expended by persons to generate, maintain, or disclose or provide information to or for a Federal agency. This includes the time needed to review instructions; develop, acquire, install, and use technology and systems for the purposes of collecting, validating, and verifying information, processing and maintaining information, and disclosing and providing information; adjust the existing ways to comply with any previously applicable instructions and requirements; train personnel to be able to respond to a collection of information; search data sources; complete and review the collection of information; and transmit or otherwise disclose information.

Respondents/Affected Entities: Electric power generating facilities, State governments.

Estimated Number of Respondents: 514 (472 facilities and 42 states).

Frequency of Response: Bi-annually, every five years.

Estimated Total Annual Hour Burden: 1,023,521 hours.

Estimated Total Annual Cost: $74,199,667. This includes an estimated burden cost of $64,224,198 and an estimated cost of $9,975,469 for capital investment or operation & maintenance.

Changes in the Estimates: The change in burden results mainly from the shift from the approval period to the renewal period of the 316(b) Phase II Existing Facilities rule. The currently approved ICR (EPA ICR No. 2060.03) covers the last 2 years of the permit approval period (i.e., years 4 and 5 after implementation) and the first year of the renewal period (i.e., year 6 after implementation). This proposed ICR covers renewal of permits only (years 7 to 9 after implementation). Activities for renewing an NPDES permit already issued under the 316(b) Phase II Existing Facilities rule are less burdensome than those for issuing a permit for the first time.

Dated: August 23, 2010.
Richard T. Westlund,
Acting Director, Collection Strategies Division.

[FR Doc. 2010-21426 Filed 8-26-10; 8:45 am]

BILLING CODE 6560-50-P